DEPARTMENT OF AGRICULTURE

Forest Service

Shasta County Resource Advisory Committee

AGENCY: Forest Service, USDA.

ACTION: Notice of meeting cancellation.

SUMMARY: The Shasta County Resource Advisory Committee (RAC) meeting scheduled on the date below is cancelled. The meeting was scheduled to meet in Redding, California. The RAC is authorized under the Secure Rural Schools and Community Self-Determination Act (the Act) (Pub. L. 110-343) and operates in compliance with the Federal Advisory Committee Act (FACA) (Pub. L. 92-463).

DATES: The cancelled meeting was scheduled for 9:00 a.m. on September 18, 2013.

ADDRESSES: The cancelled meeting was to be held at the USDA Service Center, 3644 Avtech Parkway, Redding, California. Written comments concerning this cancellation may be submitted as described under For Further Information.

All comments, including names and addresses when provided, are placed in the record and are available for public inspection and copying. The public may inspect comments received at the USDA Service Center. Please call ahead to facilitate entry into the building to view comments.

FOR FURTHER INFORMATION CONTACT: Donna Harmon, Designated Federal Officer, Shasta-Trinity National Forest, 3644 Avtech Parkway, Redding, CA 96002. Telephone: 530-226-2335 or email at: dharmon@fs.fed.us.

Individuals who use telecommunication devices for the deaf (TDD) may call the Federal Information Relay Service (FIRS) at 1-800-877-8339 between 8:00 a.m. and 8:00 p.m., Eastern Standard Time, Monday through Friday.

Dated: September 10, 2013.
Donna F. Harmon,
Designated Federal Official, Shasta-Trinity National Forest.

[FR Doc. 2013-22621 Filed 9-17-13; 8:45 am]

BILLING CODE 3410-11-P